INTERNATIONAL TRADE COMMISSION

[Investigation No. 337-TA-708]

In the Matter of Certain Stringed Musical Instruments and Components Thereof; Notice of Commission Determination Not to Review an Initial Determination Granting a Joint Motion to Terminate The Proceeding as to the Remaining Three Respondents; Termination of the Investigation

AGENCY: U.S. International Trade Commission.

ACTION: Notice.

SUMMARY: Notice is hereby given that the U.S. International Trade Commission has determined not to review an initial determination (“ID”) (Order No. 15) granting a joint motion to terminate the investigation as to the three remaining respondents; the investigation is terminated.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on April 2, 2010, based upon a complaint filed on behalf of Geoffrey Lee McCabe of Hollywood, Florida (“McCabe”) on February 26, 2010, and supplemented on March 18, 2010. 75 FR 16838 (April 2, 2010). The complaint alleged violations of section 337 of the Tariff Act of 1930 (19 U.S.C. 1337) in the importation into the United States, the sale for importation, and the sale within the United States after importation of certain stringed musical instruments and components thereof by reason of infringement of certain claims of United States Patent Nos. 5,986,191; 6,175,066; 7,470,841; 5,965,831 (“the `831 patent”) and 6,891,094 (“the `094 patent”). The notice of investigation named as respondents Floyd Rose Guitars of Redmond, WA (“Floyd Rose Guitars”); Floyd Rose Marketing, Inc. of Neptune, NJ (“Floyd Rose Marketing”); Davitt & Hanser Music Co. d/b/a HHI of Hebron, KY; (“Davitt”); Ping Well Indus. Co., Ltd. of Taichung, Taiwan (“Ping Well”); Ibanez, Inc. (Hoshino) US of Bensalem, PA; Ibanez, Inc. (Hoshino) Japan; and Fuji Gakki Co., Ltd., of Nagoya, Japan.

On June 11, 2010, the Commission issued notice of its determination to terminate the `831 patent and the `094 patent from this investigation.

On June 29, 2010, the Commission issued notice of its determination not to review an ID terminating the investigation as to Floyd Rose Guitars, Floyd Rose Marketing, Davitt and Ping Well on the basis of a consent order.

On September 7, 2010, the ALJ issued Order No. 15, granting a motion to terminate the three remaining respondents. No petitions for review were filed.

The Commission has determined not to review the subject ID.

This action is taken under the authority of section 337 of the Tariff Act of 1930, as amended (19 U.S.C. 1337), and of section 210.42(h) of the Commission's Rules of Practice and Procedure (19 CFR 210.42(h)).

By order of the Commission.
Issued: September 28, 2010.
Marilyn R. Abbott,
Secretary to the Commission.

[FR Doc. 2010-24776 Filed 10-1-10; 8:45 am]

BILLING CODE 7020-02-P